NATIONAL INDIAN GAMING COMMISSION

Notice of Intent To Prepare an Environmental Impact Statement for the Proposed Big Sandy Casino and Resort Project, Fresno County, CA

AGENCY: National Indian Gaming Commission (NIGC).

ACTION: Notice of Intent (NOI).

SUMMARY: In accordance with Section 102(2)(C) of the National Environmental Policy Act (42 U.S.C. 4321 et seq.), the National Indian Gaming Commission (NIGC), in cooperation with the Bureau of Indian Affairs (BIA) and the Big Sandy Rancheria of Mono Indians of California (the “Big Sandy Rancheria”), intends to gather information necessary for preparing an Environmental Impact Statement (EIS) for a proposed casino project to be located in Fresno County, California. The purpose of the proposed action is to help address the socio-economic needs of the Big Sandy Rancheria. Details of the proposed action and location are provided below in the SUPPLEMENTARY INFORMATION section. Notice is hereby given that the public scoping process has been initiated to prepare an EIS that will address the impacts of and alternatives to the proposal. The purpose of the scoping process is to solicit public comment regarding the full spectrum of issues and concerns, including a suitable range of alternatives, and the nature and extent of potential environmental impacts and appropriate mitigation measures that should be addressed in the EIS process. This notice also announces that separate scoping meetings for the public and government agencies will be held for the proposed action.

DATES: The agency scoping meeting will be held on September 15, 2005, from 1 p.m. to 3 p.m. The public scoping meeting will also be held on September 15, 2005, from 6:30 p.m. to 8:30 p.m., or until the last public comment is received. Written comments on the scope of the EIS should arrive by September 23, 2005.

ADDRESSES: Written comments on the scope of the EIS should be addressed to: NEPA Compliance Officer, National Indian Gaming Commission, 1441 L Street, NW., Suite 9100, Washington DC 20005. Please include your name, return address, and the caption: “EIS Scoping Comments, Big Sandy Rancheria Casino and Resort Project”, on the first page of your written comments.

The agency scoping meeting will be hosted by the NIGC, the BIA, and the Big Sandy Rancheria of Mono Indians. The meeting location is the Big Sandy Rancheria, Multi Purpose building at 37387 Auberry Mission Road, Auberry CA, 93602.

The public scoping meeting will be hosted by the NIGC, the BIA, and the Big Sandy Rancheria of Mono Indians. The meeting location is the Foothill Middle School, 29147 Auberry Rd, Prather, CA 93651, Multi-Purpose Room.

FOR FURTHER INFORMATION CONTACT: For general information on NEPA review procedures or status of the NEPA review, contact the NIGC NEPA Compliance Officer, 202-632-7003.

SUPPLEMENTARY INFORMATION: The NIGC's proposed federal action is the approval of a gaming management contract between the Big Sandy Rancheria and QBS, LLC. The approval of the gaming management contract would result in the development of a casino, resort hotel and supporting facilities. The facility will be managed by QBS, LLC on behalf of the Big Sandy Rancheria, pursuant to the terms of a gaming management contract. The BIA's proposed federal action is approval of a lease between the allottee and the tribe.

The proposed project will be located in Fresno County, east of Friant, California, on undeveloped foothill property comprising approximately 48 acres of allotted Indian land currently held by the United States in trust for the beneficial interest of a member of the Big Sandy Band of Western Mono Indians (the “Tribe”). The Tribe and the individual Indian allottee have executed and submitted for BIA approval a lease agreement granting possession of the property to the Tribe for gaming purposes. Adjacent parcels may be used from some infrastructure needs. The project will feature a 221-room multi-level resort hotel with associated spa and pool. The project will also include a conference facility, including meeting rooms and a business center. The Casino will consist of 2,000 slots and 40 table games. A multi-level parking structure with approximately 2,500 stalls will be located adjacent to the Casino. In addition, the project will include retail shops, hotel administration offices, food and beverage facilities, and other casino related operations. The project also includes a 2,500 person outdoor amphitheater, to be utilized for concerts and other performances. The total building footprint is estimated at 1.3 million square feet. A reasonable range of alternatives, including a no action alternative, will be analyzed in the EIS.

The Big Sandy Rancheria is a federally recognized Indian tribe governed by a tribal council consisting of 5 members, under a federally approved constitution. The Big Sandy Rancheria currently has a federally approved tribal-state gaming compact with the State of California. The NIGC will serve as lead agency for compliance with the National Environmental Policy Act (NEPA). The BIA, which will be responsible for approving the lease, will be a Cooperating Agency.

Public Comment and Solicitation: Written comments pertaining to the proposed action will be accepted throughout the EIS process. However, to ensure proper consideration in preparation of the EIS, scoping comments should be received by September 23, 2005. The draft EIS (DEIS) is planned for publication and distribution in the fall of 2006.

Individual commenters may request confidentiality. If you wish us to withhold your name and/or address from public review or from disclosure under the Freedom of Information Act, you must state this prominently at the beginning of your written comment. Such requests will be honored to the extent allowed by law. Anonymous comments will not, however, be considered. All submissions from organizations or businesses, and from individuals identifying themselves as representatives or officials of organizations or businesses, will be made available for public inspection in their entirety.

Authority: This notice is published in accordance with section 1501.7 of the Council on Environmental Quality Regulations (40 CFR parts 1500 through 1508) implementing the procedural requirements of the National Environmental Policy Act of 1969, as amended (45 U.S.C. 4321 et seq.).

Dated: August 8, 2005.
Philip N. Hogen,
Chairman.

[FR Doc. 05-16055 Filed 8-11-05; 8:45 am]

BILLING CODE 7565-01-U